INTER-AMERICAN FOUNDATION

Board Meeting; Sunshine Act Meetings

TIME AND DATE: September 26, 2011, 9 a.m.-1:30 p.m.

PLACE: 901 N. Stuart Street, Tenth Floor, Arlington, Virginia 22203.

STATUS: Open session.

MATTERS TO BE CONSIDERED:

• Approval of the Minutes of the June 6, 2011, Meeting of the Board of Directors

• Strategic Planning

• President and Management Report

• Communications Strategy

• Advisory Council

• Next Meetings

PORTIONS TO BE OPEN TO THE PUBLIC: • Approval of the Minutes of the June 6, 2011, Meeting of the Board of Directors

• Strategic Planning

• President and Management Report

• Communications Strategy

• Advisory Council

• Next Meetings

PORTIONS TO BE CLOSED TO THE PUBLIC: • None

CONTACT PERSON FOR MORE INFORMATION: Jennifer Hodges Reynolds, General Counsel, (703) 306-0002.

Jennifer Hodges Reynolds,
General Counsel.

[FR Doc. 2011-23785 Filed 9-13-11; 11:15 am]

BILLING CODE 7025-01-P